OFFICE OF PERSONNEL MANAGEMENT

Submission for Review: 3206-0128, Application for Refund of Retirement Deductions (CSRS)—SF 2802 and Current/Former Spouse's Notification of Application for Refund of Retirement Deductions Under CSRS—SF 2802A

AGENCY: Office of Personnel Management.

ACTION: 60-Day notice and request for comments.

SUMMARY: Office of Personnel Management (OPM) offers the general public and other federal agencies the opportunity to comment on an expiring information collection request (ICR), Application for Refund of Retirement Deductions Under the Civil Service Retirement System, SF 2802 and Current/Former Spouse's Notification of Application for Refund of Retirement Deductions Under the Civil Service Retirement System, SF 2802A.

DATES: Comments are encouraged and will be accepted until April 27, 2026.

ADDRESSES: You may submit comments using the Federal Rulemaking Portal at http://www.regulations.gov. Follow the instructions for submitting comments. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-BD, Washington, DC 20415, Attention: Cyrus S. Benson, or via electronic mail to RSPublicationsTeam@opm.gov or faxed to (202) 606-1995.

SUPPLEMENTARY INFORMATION: As required by the Paperwork Reduction Act, as amended (44 U.S.C. chapter 35), OPM is soliciting comments for this collection (OMB No. 3206-0128). The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2802 is used to support the payment of monies from the Retirement Fund. It identifies the applicant for refund of retirement deductions. Standard Form 2802A is used to comply with the legal requirement that any spouse or former spouse of the applicant has been notified that the former employee is applying for a refund.

Analysis

Agency: Office of Personnel Management, Retirement Services.

Title: Application for Refund of Retirement Deductions (CSRS) and Current/Former Spouse's Notification of Application for Refund of Retirement Deductions under the Civil Service Retirement System.

OMB Number: 3206-0128.

Frequency: On occasion.

Affected Public: Individuals or Households.

Number of Respondents: SF 2802 = 3,741; SF 2802A = 3,389.

Estimated Time per Respondent: SF 2802 = 60 minutes; SF 2802A = 15 minutes.

Total Burden Hours: 4,588.

Office of Personnel Management.
Alexys Stanley,
Federal Register Liaison.

[FR Doc. 2026-03692 Filed 2-23-26; 8:45 am]

BILLING CODE 6325-38-P